DEPARTMENT OF TRANSPORTATION

Pipeline and Hazardous Materials Safety Administration

[Docket No. PHMSA-2013-0241; Notice No. 13-18]

Information Collection Activities

AGENCY: Pipeline and Hazardous Materials Safety Administration (PHMSA), DOT.

ACTION: Notice and request for comments.

SUMMARY: In accordance with the Paperwork Reduction Act of 1995, PHMSA invites comments on an information collection pertaining to Hazardous Materials Emergency Preparedness (HMEP) Grants. PHMSA will request approval from the Office of Management and Budget (OMB) for a revision to the current information collection. The revision implements a statutory requirement in the Moving Ahead for Progress in the 21st Century Act (Public Law No. 112- 141, July 6, 2012) (MAP-21) to submit an annual report to Congress that identifies the ultimate recipients of HMEP grants and contains a detailed accounting and description of each grant expenditure by each grant recipient, including the amount of, and purpose for, each expenditure. This notice describes and seeks comment on the request for information PHMSA seeks to collect in order to comply with MAP-21.

DATES: Interested persons are invited to submit comments on or before February 3, 2014.

ADDRESSES: You may submit comments by identification of the docket number (Docket No. PHMSA-2013-0241) by any of the following methods:

• Federal eRulemaking Portal: Go to http://www.regulations.gov. Follow the online instructions for submitting comments.

• Fax: 1-202-493-2251.

• Mail: Docket Operations, U.S. Department of Transportation, West Building, Ground Floor, Room W12-140, Routing Symbol M-30, 1200 New Jersey Avenue SE., Washington, DC 20590.

• Hand Delivery: To Docket Operations, Room W12-140 on the ground floor of the West Building, 1200 New Jersey Avenue SE., Washington, DC 20590, between 9 a.m. and 5 p.m., Monday through Friday, except Federal holidays.

Instructions: All submissions must include the agency name and docket number for this notice at the beginning of the comment. All comments received will be posted without change to the Federal Docket Management System (FDMS), including any personal information.

Docket: For access to the dockets to read background documents or comments received, go to http://www.regulations.gov or DOT's Docket Operations Office (see ADDRESSES).

FOR FURTHER INFORMATION CONTACT: Emmanuel Ekwo, Chief, Grants and Registration Branch, Outreach, Training, and Grants Division, Office of Hazardous Materials Safety (PHH-52), Pipeline and Hazardous Materials Safety Administration, (202) 366-1634, PHMSA, 1200 New Jersey Avenue SE., Washington, DC 20590.

SUPPLEMENTARY INFORMATION: Section 1320.8(d), Title 5, Code of Federal Regulations (CFR) requires PHMSA to provide interested members of the public and affected agencies an opportunity to comment on information collection and recordkeeping requests. This notice identifies an information collection PHMSA will submit to OMB for a revision to OMB Control Number 2137-0586, entitled “Hazardous Materials Public Sector Training and Planning Grants,” to comply with Moving Ahead for Progress in the 21st Century Act (Public Law No. 112- 141, July 6, 2012) (MAP-21). This collection of information is contained in 49 CFR, part 110, Hazardous Materials Public Sector Training and Planning Grants. PHMSA is seeking to identify the ultimate recipients of HMEP grants and a detailed accounting and description of each grant expenditure by each grant recipient, including the amount of, and purpose for, each expenditure.

HMEP Grants

PHMSA is responsible for the administration of the Hazardous Materials Emergency Preparedness (HMEP) grant program. The HMEP grant program, as mandated by Federal hazardous materials transportation law (Federal hazmat law; 49 U.S.C. 5101 et seq.) provides Federal financial and technical assistance to states, territories, and Native American tribes to “develop, improve, and carry out emergency plans” within the National Response System and the Emergency Planning and Community Right-To-Know Act of 1986 (Title III), 42 U.S.C. 11001 et seq. The program was established in 1993 to ensure that the needed planning, training, and infrastructure are in place to protect the public in the event of a transportation-related hazardous materials incident. The grants are used to develop, improve, and implement emergency plans; train public sector hazardous materials emergency response employees to respond to accidents and incidents involving hazardous materials; determine flow patterns of hazardous materials within a state and between states; and determine the need within a state for regional hazardous materials emergency response teams.¹

¹ The HMEP grants program is funded by registration fees collected from persons who offer for transportation or transport certain hazardous materials in intrastate, interstate, or foreign commerce.

Among the statutory requirements for HMEP grants are funding for planning and training with pass-through requirements,² recipient sharing in 20 percent of the total costs of the planning and training activities, and maintenance of the level of aggregate expenditures by a recipient for the last five (5) fiscal years. The program is a discretionary grant program. PHMSA is not obligated to make an award if an applicant does not meet PHMSA's requirements. PHMSA has provided funding to eligible states, territories, or Native American tribal applicants that submit a completed, thorough application with the required documentation. Annual obligations for all recipients are approximately $22 million, while individual award amounts range from less than $50,000 to more than $1 million.

² With pass-through grants, states apply to the Federal government for a grant. After receiving the grant, the state then passes a certain percentage of the Federal funds on to sub-grantees. At least 75 percent of the Federal training funds must be used to provide training to local responders, including volunteers.

MAP-21 and Enhanced Grant Post-Award Monitoring

On July 6, 2012, President Obama signed into law the law Moving Ahead for Progress in the 21st Century Act (MAP-21), which among other requirements, stipulates that in its annual Report to Congress, PHMSA identify the ultimate recipients of HMEP grants and include a detailed accounting and description of each grant expenditure by each grant recipient, including the amount of, and purpose for, each expenditure. In the past, PHMSA has not collected this information. Requiring this information now constitutes a revision to an existing information collection under the Paperwork Reduction Act (PRA) and necessitates approval by OMB.

The additional information will provide a better understanding of how the allocated funds are being used and will enable PHMSA to help grantees to better develop, improve, or implement emergency plans; train emergency response employees; determine flow patterns of hazardous materials within a state and between states; and determine the need within the state, territory, or Native American tribal land for regional hazardous materials emergency response teams.

Questions to HMEP Grantees

Following the close of this 60-Day Notice and receipt of comments, PHMSA will publish a 30-day Notice. The 30-day Notice will provide grantees, shippers, carriers, and other stakeholders the questions PHMSA will ask grantees for it to comply with the new MAP-21 reporting requirements and to enable it to more accurately evaluate the effectiveness of the HMEP program in meeting emergency response planning and training needs. PHMSA proposes to collect the following types of information from each HMEP grantee.

General Grantee and Sub-Grantee Information

PHMSA is seeking to collect the following general background information on grantees and sub-grantees to comply with the MAP-21 requirements and identify the ultimate grant recipients and their intended use of grant funds. This detailed level of reporting will allow PHMSA to better help grant recipients identify when training or planning has been successful, and how best to allocate future funds. While the initial application includes this information, throughout the year, the grant point-of-contact, and other necessary information, often changes. Confirming that the information on grantees is up-to-date throughout the grant cycle will enable PHMSA to better monitor the ultimate recipient and use of grant funds, and will ensure that PHMSA is able to contact grantees when necessary, allowing it to better oversee the use of the grant funds.

Grantee Information

• Grantee's name

• Name of point of contact

• Telephone number of the point of contact

• Email address of the point of contact

• Grant number

• Reporting period for which the report is being submitted

Planning and Training Grants Sub-grantee Information

• Names and requested funding amount for each sub-grantee

• Award amount of each sub-grantee

• Amount expended by the close of the reporting period

• An explanation of the selection process and how funding was allocated to each sub-grantee

• An explanation of how the grantee made no less than 75% of HMEP training grant funds available to benefit public sector employees

PHMSA does not anticipate that completing the general grantee and sub-grantee questions will impose a significant burden. This information is used by the grantee to determine how it will distribute its funds throughout the course of the grant cycle. As such, grant recipients should have this information readily available before they request grant funding. PHMSA estimates no more than 65 grantees will be asked to answer these questions and that it will take each respondent approximately 60 minutes to answer the list of questions. The resulting estimated total burden is 65 hours (65 respondents × 1 hour per respondent = 65 hours) for the grantee and sub-grantee question data collection.

Information on Local Emergency Planning Committees

PHMSA is seeking to collect information regarding Local Emergency Planning Committees (LEPCs) or comparable entities. PHMSA's mission is to protect people and the environment from the risks of hazardous materials transportation. One way in which PHMSA achieves its mission is to provide funding to grantees, who, in turn, fund LEPCs to prepare the public and first responders to reduce consequences if an incident does occur. LEPCs are in place to plan the initial response for foreseeable hazardous materials transportation incidents, which is in direct support of PHMSA's mission. The consequences of incidents involving hazardous materials transportation could be greatly reduced when a locality has an active LEPC with information on what hazardous materials are passing through its community.

On July 6, 2013, a catastrophic accident involving a freight train containing loaded tank cars of petroleum crude oil occurred in the town of Lac-Mégantic, Quebec, on the Montreal, Maine & Atlantic Railway (MMA). Forty-two people were confirmed dead with five more missing and presumed dead. More than 30 buildings in the town's center, roughly half of the downtown area, were destroyed.

While an active LEPC most likely could not have mitigated the disastrous results in this particular incident, as the chain of events unfolded too quickly for any organized response, this incident did bring to light the ever growing quantities of hazardous materials, especially crude oil, that are moving through the nation's communities.³ This increase in shipments of crude oil corresponds with the increase in the number of incidents and accidents from railroad cars carrying crude oil—up from one or two incidents a year in the early 2000's to 88 in 2012.⁴

³ Industry statistics demonstrate that, in terms of rail originations, crude oil shipments are the fastest growing of all hazardous materials shipped by rail. According to the Association of American Railroads' (AAR) Annual Report of Hazardous Materials Transported by Rail for 2012, the number of crude oil originations has increased by 443% since 2005. Further, since 2005, rail shipments of ethanol have increased by a similar percentage. DOT anticipates that for the foreseeable future, rail shipment originations of crude oil will remain high.

⁴ U.S. DOT, PHMSA, Office of Hazardous Materials Safety, Incidents Reports Database.

On July 10, 2005, two freight trains collided head-on in Anding, Mississippi. This accident prompted the National Transportation Safety Board (NTSB) to recommend that PHMSA require and verify that states and their communities receiving funds through the HMEP grant program conduct training exercises and drills with the joint participation of railroads and other transporters of hazardous materials as a means to evaluate state, regional, and local emergency response plans.

With adequate planning and preparedness to respond to catastrophic accidents, injuries and deaths could be reduced or avoided. Data involving highway miles, rail miles,⁵ and the assessment of chemical threats and response capabilities, examined in conjunction with detailed information regarding the LEPCs, will enable PHMSA to comply with the MAP-21 requirements to better identify the level of grant funding used for planning by each grantee, increase its oversight, and better enable grantees to support training activities in support of PHMSA's mission. With this in mind, PHMSA seeks to request the following information.

⁵ Highway and rail miles can be derived from other sources.

• Number of active Local Emergency Planning Committees or equivalent

• Number of inactive Local Emergency Planning Committees or equivalent

• Number of emergency response plans currently in place

• Number of Local Emergency Planning Committees participating on the grant

PHMSA does not anticipate that providing the information regarding LEPCs or comparable entities will impose a significant burden on grant recipients. PHMSA estimates no more than 65 grantees will be asked to answer these questions, and that it will take each respondent approximately 60 minutes to answer the list of questions. The resulting estimated total burden is 65 hours (65 respondents × 1 hour per respondent = 65 hours) for the grantee to collect this data.

Assessment of Potential Chemical Threats

PHMSA is seeking to collect the following information on the potential for hazardous materials incidents or accidents in each grantee's state, territory, or Native American tribe to help determine if the level of funding to each grant recipient is commensurate with the potential for incidents or accidents in the particular jurisdiction. This information will enable PHMSA to better allocate grant funds according to need.

• Total number of hazards chemicals produced, used, or stored within the applicant's State/Tribe/Territory

• Total number of facilities that produce, use, or store hazardous chemicals within the applicant's State/Tribe/Territory

• Total number of facilities that produce, use, or store extremely hazardous substances within the applicant's State/Tribe/Territory

PHMSA does not anticipate that providing information on hazardous chemicals use, production, and storage will impose a significant burden on grantees. This information must already be provided by facilities to the State Emergency Response Commission, LEPC, and local fire departments in accordance with the Emergency Planning and Community Right-to-Know Act. The questions listed above are intended to ensure that PHMSA complies with the MAP-21 reporting requirements, and estimates no more than 65 grantees will be asked to answer these questions. PHMSA estimates it will take each respondent approximately 20 minutes to answer the list of questions, resulting in an estimated total burden of 22 hours (65 respondents × 0.33 hour per respondent = 22 hours) for the grantee and sub-grantee question data collection.

Assessment of Response Capabilities for Accidents/Incidents Involving the Transportation of Hazardous Materials

PHMSA is seeking to collect the following information on the total number of emergency responders and emergency response teams with a HAZMAT specialty unit in each grantee's state, territory, or Native American tribe to help determine if the level of funding to each grant recipient is commensurate with the potential in the particular jurisdiction for incidents or accidents. This information will enable PHMSA to better allocate grant funds according to need.

• The total number of emergency responders in the following disciplines:

○ Police

○ Fire

○ EMS

○ Other

• The number of emergency response teams with a HAZMAT specialty unit

PHMSA does not anticipate that providing the number of emergency responders and the number of emergency response teams with HAZMAT specialty units will impose a significant burden on grantees. PHMSA estimates no more than 65 grantees will be asked to answer these questions, and that it will take each respondent approximately 30 minutes to answer the list of questions. The resulting estimated total burden is 32.5 hours (65 respondents × 0.5 hour per respondent = 32.5 hours) for the grantee and sub-grantee question data collection.

HMEP Planning and Training Grant Reporting

PHMSA is seeking to collect the following information on each completed activity for the reporting period. The information obtained will enable PHMSA to ascertain more detailed reporting from grantees to comply with MAP-21.

• The grantee will list the completed activities for the reporting period, including:

○ Name of the activity

○ Purpose of the activity

○ Number of participants involved in the activity

○ Name and description of supplies needed to conduct the activity (if applicable)

○ Name and description of any equipment needed to conduct the activity (if applicable)

○ Expected start and end time for the activity (if applicable)

• Outcome of each completed activity

• Output of each completed activity

• Actual cost of each completed activity using the following categories:

○ Personal costs

○ Fringe benefits costs

○ Travel costs

○ Equipment costs

○ Supplies costs

○ Contractual costs

○ Indirect costs

○ Other costs not listed

• The amount of non-Federal funds contributed to this activity, if any

• Aggregate expenditures exclusive of Federal funds for the last five years

The questions listed above are intended to ensure that PHMSA complies with the MAP-21 reporting requirements. PHMSA does not anticipate that providing information on each completed activity will impose a significant burden on grantees. PHMSA estimates no more than 65 grantees will be asked to answer these questions, and that it will take each respondent approximately 30 minutes to answer the list of questions. The resulting estimated total burden is 32.5 hours (65 respondents × 0.5 hour per respondent = 32.5 hours) for the grantee and sub-grantee question data collection.

HMEP Planning Goal and Objectives

PHMSA seeks to collect the following information on each grant recipient's goals and objectives for the HMEP planning grant to better allocate grant funds. A 2008 Environmental Protection Agency (EPA) Nationwide Survey ⁶ of LEPCs indicated that a dedicated membership is the greatest single factor contributing to an LEPC's success (33.3%) while 15.9% report that regularly scheduled meetings contribute most to their success as an organization. Grant funding to support LEPC planning initial responses for foreseeable hazardous materials transportation incidents would most likely reduce the number of incidents and accidents in each state, territory, or Native American tribal land. PHMSA intends to ask each planning grant recipient to explain the following goals and objectives.

⁶ U.S. Environmental Protection Agency 2008 Nationwide Survey of LEPCs (http://www.epa.gov/oem/docs/chem/2008_lepcsurv.pdf (accessed 11/7/2013))

• The current abilities and authorities of the grant recipient's program for preparedness planning

• The need to sustain or increase program capability

• The current degree of participation in regional hazardous materials emergency preparedness teams

• The intention to assess the need for a regional hazardous materials emergency preparedness team

• The impact that the grant has/will have on the program

The questions listed above are intended to ensure that PHMSA complies with the MAP-21 reporting requirements. PHMSA does not anticipate that providing planning goals and objectives will impose a significant burden on grantees. These are question each grantee must ask itself when applying for HMEP grant funds. PHMSA estimates no more than 65 grantees will be asked to answer these questions, and that it will take each respondent approximately 30 minutes to answer the list of questions. The resulting estimated total burden is 32.5 hours (65 respondents × 0.5 hour per respondent = 32.5 hours) for the grantee and sub-grantee question data collection.

HMEP Training Goals and Objectives

PHMSA seeks to collect the following information on each grant recipient's goals and objectives for the HMEP training grant to better allocate grant funds to reduce the number of incidents and accidents in each state, territory, or Native American tribal land. PHMSA intends to ask each training grant recipient to explain the following goals and objectives.

• Overall training needs of the jurisdiction, quantified in terms of number of persons needing training and the number of persons currently trained in the different disciplines and planning and response functions.

• Ways in which the training grant will support the diverse needs in the jurisdiction, such as decentralized delivery of training to meet the needs and time considerations of local responders or how the grant program will accommodate the different training needs for rural versus urban environments.

The questions listed above are intended to ensure that PHMSA complies with the MAP-21 reporting requirements. PHMSA does not anticipate that providing training goals and objectives will impose a significant burden on grantees. PHMSA estimates no more than 65 grantees will be asked to answer these questions, and that it will take each respondent approximately 20 minutes to answer the list of questions. The resulting estimated total burden is 22 hours (65 respondents × 0.33 hour per respondent = 22 hours) for the grantee data collection.

HMEP Training and Planning Assessment

PHMSA seeks to collect the following information on each grantee's assessment of the use of their HMEP training and planning grant funds towards the end of the grant cycle to determine how the grant funds were actually used and to assess the best allocation of future grants. PHMSA intends to ask each grant recipient to provide a progress report during the course of the grant cycle on the following:

• A narrative detailing how goals and objectives for the HMEP planning grant were achieved.

• A narrative detailing how the State/Tribe/Territory, through the use of HMEP planning funds, is better suited to handle accidents and incidents involving the transport of hazardous materials.

• Number of emergency plans updated during the performance period.

• Number of emergency response plans written during the performance period.

• Number of commodity flow studies conducted during the performance period.

• Number of hazard risk analyses conducted during the performance period.

• Number of hazardous materials drills or exercises conducted during the performance period involving air, water, highway, and rail.

• A narrative detailing how the State/Tribe/Territory, through the use of HMEP planning and training funds, is better suited to handle accidents and incidents involving the transport of hazardous materials.

• Number of fire, police, EMS, and any additional disciplines that received awareness, operation, technician, refresher, Incident Command System, site specialist trainings.

The questions listed above are intended to ensure that PHMSA complies with the MAP-21 reporting requirements. PHMSA does not anticipate that providing training assessments will impose a significant burden on grantees as grantees should be aware of these statistics to determine the effectiveness of the activities performed using HMEP grant funds. PHMSA estimates no more than 65 grantees will be asked to answer these questions, and that it will take each respondent approximately 30 minutes to answer the list of questions. The resulting estimated total burden is 32.5 hours (65 respondents × 0.50 hour per respondent = 32.5 hours) for the grantee data collection.

Hazmat Transportation Fees

PHMSA seeks to collect the following information on hazardous materials transportation fees collected within each grantee's state, territory, or Native American tribe. 49 U.S.C. 5116(b)(4)(C) and (D) authorizes PHMSA to allocate amounts made available for grants for a fiscal year among eligible states, territories, and Native American tribes based on the needs of the states and Native American tribes for emergency response training. In making a decision about those needs, PHMSA is required to consider whether the state, territory, or Native American tribe imposes and collects a fee on transporting hazardous material; and whether the fee is used only to carry out a purpose related to transporting hazardous material. In the past, PHMSA has not collected this information. Requiring this information now constitutes a revision to an existing information collection under the PRA and necessitates approval by OMB. This information may be used to assess whether entities are receiving funds from other sources to perform hazardous materials transportation training or planning and to determine whether or not to reallocate funds to grantees without supplemental funding.

• Are fees collected solely for the transportation of hazardous materials in the grant recipient's state, territory, or Native American tribe? (yes or no)

• If such fees are collected, are they used to carry out purposes related to the transportation of hazardous materials? (yes or no)

• If fees are used to carry out purposes related to the transportation of hazardous materials, what is the dollar amount collected?

The questions listed above are intended to ensure that PHMSA is aware of other funding for hazardous materials transportation in each state, territory, or Native American tribe to better assess how each grantee is using HMEP grant funds, and to what degree, if any, funding may be used towards other resources where additional funding is not available. PHMSA does not anticipate that listing hazmat fees collected by each grantee's state, territory, or Native American tribe will impose a significant burden on grantees. PHMSA estimates no more than 65 grantees will be asked to answer these questions, and that it will take each respondent approximately 10 minutes to answer the list of questions. The resulting estimated total burden is 11 hours (65 respondents × 0.17 hour per respondent = 11 hours) for the grantee data collection.

Grantee Complies With National Incident Management System and Grant Application Is Reviewed by SERC

Prior to applying for a HMEP grant, states, territories and Native American tribes must comply with the National Incident Management System (NIMS). NIMS identifies concepts and principles to manage emergencies from preparedness to recovery regardless of their cause, size, location, or complexity. State Emergency Response Commissions (SERC) consist of members from state and local government, including fire, public health, industry, transportation, and the public. Members of SERC are generally appointed by the governor of each state and are requested to supervise and coordinate activities of Local Emergency Planning Committees, and to approve members of the LEPC. PHMSA seeks to collect the following information on each grant applicant to ensure that they meet NIMS requirements and that each member of the SERC was given the opportunity to review the HMEP Grant application before submitting it to PHMSA.

• The applicant is to state whether or not the State/Tribe/Territory is compliant with National Incident Management System (NIMS) (yes or no)

• The applicant is to state whether or not each member of the SERC was given the opportunity to review the HMEP Grant application before submitting it to PHMSA. (yes or no)

The questions listed above are intended to ensure that grant applicants comply with Federal requirements to receive grant funds. PHMSA does not anticipate that answering these questions will impose a significant burden on grantees. PHMSA estimates no more than 65 grantees will be asked to answer these questions, and that it will take each respondent approximately 5 minutes to answer the two questions. The resulting estimated total burden is 5.5 hours (65 respondents × .08 hour per respondent = 5.5 hours).

HMEP Grant Program Administration

PHMSA seeks to maintain up-to-date records to ensure that it continues to receive detailed accounting of all grantees and sub-grantees. Accordingly, PHMSA intends to ask each grant applicant the following questions.

• If applicable, the grantee will list any changes in the grant program; i.e. program priorities, points of contact, tax or employee identification numbers.

• If applicable, the grantee will list any issues that impact performance; i.e. response to natural disasters or loss of key personnel.

The questions listed above are intended to ensure that grantees provide up-to-date information. PHMSA does not anticipate that answering these questions will impose a significant burden on grantees. PHMSA estimates no more than 65 grantees will be asked to answer these questions, and that it will take each respondent approximately 10 minutes to answer the two questions. The resulting estimated total burden is 11 hours (65 respondents × .17 hour per respondent = 11 hours).

Total Information Collection Burden

The total revised information collection budget for the HMEP grants program follows:

General Grantee and Sub-grantee information | 65 respondents × 1 hr | = 65 hours
Information on LEPCs | 65 respondents × 1 hr | = 65 hours
Assessment of Potential Chemical Threats | 65 respondents × 0.33 hr | = 22 hours
Assessment of Response Capabilities for Accidents/Incidents | 65 respondents × 0.5 hr | = 32.5 hours
HMEP Planning and Training Grant Reporting | 65 respondents × 0.5 hr | = 32.5 hours
HMEP Planning Goals and Objectives | 65 respondents × 0.5 hr | = 32.5 hours
HMEP Training Goals and Objectives | 65 respondents × 0.33 hr | = 22 hours
HMEP Training and Planning Assessment | 65 respondents × 0.5 hr | = 32.5 hours
Hazmat Transportation Fees | 65 respondents × 0.17 hr | = 11 hours
Grant Applicant is NIMS Compliant/Grant Application Is Reviewed By SERC | 65 respondents × .08 hr | = 5.5 hours
HMEP Grant Program Administration | 65 respondents × 0.17 hr | = 11 hour
Total Information Collection Burden | 65 respondents | 331.5 hours

Title: Hazardous Materials Public Sector Training and Planning Grants.

OMB Control Number: 2137-0586.

Type of Request: Revision of a currently approved information collection.

Abstract: Part 110 of 49 CFR sets forth the procedures for reimbursable grants for public sector planning and training in support of the emergency planning and training efforts of states, Native American tribes and local communities to manage hazardous materials emergencies, particularly those involving transportation. Sections in this part address information collection and recordkeeping with regard to applying for grants, monitoring expenditures, and reporting and requesting modifications.

Affected Public: State and local governments, territories, and Native American tribes. Recordkeeping:

Estimated Number of Respondents: 65

Estimated Number of Responses: 65

Increase in Estimated Annual Burden Hours: 320

Increase in Estimated Annual Burden Costs: $3,200

Frequency of Collection: Up to four (4) times a year.

R. Ryan Posten,
Deputy Associate Administrator for Hazardous Materials Safety, Pipeline and Hazardous Materials Safety Administration.

[FR Doc. 2013-29015 Filed 12-3-13; 8:45 am]

BILLING CODE 4910-60-P